FEDERAL COMMUNICATIONS COMMISSION

47 CFR Parts 0, 1, 2 and 15

[ET Docket No. 13-44; Report No. 3030]

Petitions for Reconsideration of Action in Rulemaking Proceeding

AGENCY: Federal Communications Commission.

ACTION: Petitions for reconsideration.

SUMMARY: Petitions for Reconsideration (Petitions) have been filed in the Commission's rulemaking proceeding by: Chuck Powers, on behalf of Motorola Solutions, Inc., and Brian Scarpelli, on behalf of Telecommunications Industry Association.

DATES: Oppositions to the Petitions must be filed on or before December 15, 2015. Replies to an opposition must be filed on or before December 28, 2015.

ADDRESSES: Federal Communications Commission, 445 12th Street SW., Washington, DC 20554.

FOR FURTHER INFORMATION CONTACT: Brian Butler, Office of Engineering and Technology Bureau, (202) 418-2702, email: Brian.Butler@fcc.gov.

SUPPLEMENTARY INFORMATION: This is a summary of Commission's document, Report No. 3030, released October 22, 2015. The full text of the Petitions is available for viewing and copying at the FCC Reference Information Center, 445 12th Street SW., Room CY-A257, Washington, DC 20554 or may be accessed online via the Commission's Electronic Comment Filing System at http://apps.fcc.gov/ecfs/. The Commission will not send a copy of this Notice pursuant to the Congressional Review Act, 5 U.S.C. 801(a)(1)(A), because this Notice does not have an impact on any rules of particular applicability.

Subject: Amendment of Parts 0, 1, 2, and 15 of the Commission's Rules regarding Authorization of Radiofrequency Equipment; Amendment of Part 68 regarding Approval of Terminal Equipment by Telecommunications Certification Bodies, published at 80 FR 33425, June 12, 2015, in ET Docket No. 13-44; RM-11652, FCC 14-208. This Notice is published pursuant to 47 CFR 1.429(e) of the Commission's rules. See also 47 CFR 1.4(b)(1).

Number of Petitions Filed: 2.

Federal Communications Commission.
Marlene H. Dortch,
Secretary.

[FR Doc. 2015-30238 Filed 11-27-15; 8:45 am]

BILLING CODE 6712-01-P